DEPARTMENT OF ENERGY

Federal Energy Regulatory Commission

[Project No. 12462-000]

Notice of Application Tendered for Filing With the Commission, Soliciting Additional Study Requests

August 22, 2003.

Take notice that the following hydroelectric application has been filed with the Commission and is available for public inspection.

a. Type of Application: Exemption.

b. Project No.: 12462-000.

c. Date Filed: July 28, 2003.

d. Applicant: Indian River Power Supply, LLC.

e. Name of Project: Indian River Project.

f. Location: On the Westfield River in the town of Russell, Hampden County, Massachusetts. The project does not utilize lands of the United States.

g. Filed Pursuant to: Public Utilities Regulatory Policies Act of 1978, 16 U.S.C. 2705, 2708.

h. Applicant Contact: Mr. Richard E. Lynch Sr, 22 Woodland Avenue, Westfield, Massachusetts. 01085. i. FERC Contact: Michael Spencer, michael.spencer@ferc.gov, (202) 502-6093.

j. Cooperating Agencies: We are asking Federal, state, and local agencies and Indian tribes with jurisdiction and/or special expertise with respect to environmental issues to cooperate with us in the preparation of the environmental document. Agencies who would like to request cooperating status should follow the instructions for filing comments described in item k below.

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 29, 2003.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the internet in lieu of paper. The Commission strongly encourages electronic filings. See 18 CFR 385.2001(a)(1)(iii) and the instructions on the Commission's Web site at http://www.ferc.gov under the “e-filing link.

m. This application is not ready for environmental analysis at this time.

n. Description of Project: The Indian River Project consists of: (1) The existing 30-foot-high Russell dam; (2) a small reservoir; (3) a powerhouse and; (4) appurtenant facilities.

o. A copy of the application is available for review at the Commission in the Public Reference Room or may be viewed on the Commission's Web site at http://www.ferc.gov using the “eLibrary” link. Enter the docket number excluding the three digits in the docket number field to access the document. For assistance, please contact FERC Online Supoort at FERCOnlineSupport@ferc.gov or toll free at (866) 208-3676, or for TTY, contact (202) 502-8659. A copy is also available for inspection and reproduction at the address in item h above.

p. With this notice, we are initiating consultation with the Massachusetts State Historic Preservation Officer (SHPO), as required by § 106, National Historic Preservation Act, and the regulations of the Advisory Council on Historic Preservation, 36 CFR 800.4.

Note: The above paragraph initiating consultation with the SHPOs may be unnecessary if that language was included in the pre-filing notice requesting preliminary terms and conditions.

q. Procedural schedule and final amendments: The application should be processed according to the following Hydro Licensing Schedule. Revisions to the schedule will be made as appropriate.

Issue Deficiency Letter: October 2003.

Issue Acceptance Letter: January 2004.

Issue Scoping Document for Comments: February 2004.

Request Additional Information: April 2004.

Notice of application is ready for environmental analysis: August 2004.

Notice of the availability of the EA: October 2004.

Ready for Commission's decision on the Application: December 2004.

Final amendments to the application must be filed with the Commission no later than 30 days from the issuance date of the notice of ready for environmental analysis.

Magalie R. Salas,
Secretary.

[FR Doc. 03-22109 Filed 8-28-03; 8:45 am]

BILLING CODE 6717-01-P